NUCLEAR REGULATORY COMMISSION

[Docket No. 50-213-OLA, ASLBP No. 01-787-02-OLA]

Atomic Safety and Licensing Board; Before Administrative Judges: Ann Marshall Young, Chair, Dr. Peter S. Lam, Thomas D. Murphy; In the Matter of Connecticut Yankee Atomic Power Company (Haddam Neck Plant)

January 27, 2003.

Notice of Evidentiary Hearing and Opportunity To Make Limited Appearance Statements

This Atomic Safety and Licensing Board hereby gives notice that, beginning on Monday, March 10, 2003, it will convene an evidentiary hearing in New Britain, Connecticut, to receive testimony and exhibits and to allow the cross-examination of witnesses on certain matters at issue in this proceeding. In addition, the Board gives notice that, in accordance with 10 CFR 2.715(a), it will also entertain oral limited appearance statements from members of the public, as specified in Section B below.

This proceeding involves certain challenges of Intervenor Citizens Awareness Network (CAN) to a license amendment request by Connecticut Yankee Atomic Power Company (CYAPCO or Connecticut Yankee), seeking approval of a License Termination Plan (LTP) for its Haddam Neck Plant. (Intervenor Connecticut Department of Public Utility Control (CDPUC) has settled all its admitted contentions with CYAPCO, but continues to participate in the proceeding as an interested state.) On January 31, 2001, this Licensing Board was established to preside over this proceeding. 66 FR 9111 (Feb. 6, 2001). By Memorandum and Order dated July 9, 2001, the Licensing Board granted CAN's and CDPUC's requests for a hearing, and on July 12, 2001, issued a Notice of Hearing. 66 FR 37494 (July 18, 2001).

At the evidentiary hearing, the Board will receive evidence on CAN's challenges to the adequacy of certain aspects of the LTP to assure the protection of the public health and safety, relating to Connecticut Yankee's site characterization and methodology for detection and cleanup of transuranic, hard-to-detect-nuclide, and “hot particle” contamination; and to its dose modeling calculation methodology.

A. Timing and Location of Evidentiary Hearing

The evidentiary hearing will commence on the afternoon of March 10, 2003, at 1:30 p.m. in Hearing Room One, located on the first floor of the Connecticut Department of Public Utility Control Building, at Ten Franklin Square, New Britain, Connecticut.

The hearing will continue from day to day until concluded. At the conclusion of each day, the Board will announce when the hearing will reconvene, which will generally be at 9 a.m. each day (although the hearing may not start until 10 a.m. on Wednesday, March 12). Hearings will extend until approximately 5 p.m. each day (except that on Friday, March 14, the hearing will likely adjourn at approximately 12 noon). The Board may make changes in the schedule, lengthening or shortening each day's session or canceling a session as deemed necessary or appropriate to allow for witnesses' availability and other matters arising during the course of the proceeding.

Members of the public are encouraged to attend any and all sessions of the evidentiary hearing, but should note that these sessions are adjudicatory proceedings open to the public for observation only. Those who wish to participate are invited to offer limited appearance statements as provided in Section B, below.

B. Participation Guidelines for Oral Limited Appearance Statements

On the evening of March 11, 2003, starting at 6 p.m. and continuing until 9 p.m. as necessary, in the same location as the evidentiary hearing, any persons who are not parties to the proceeding will be permitted to make oral statements setting forth their positions on matters of concern relating to this proceeding. Although these statements do not constitute testimony or evidence, they may nonetheless help the Board and/or the parties in their consideration of the issues in this proceeding.

The time allotted for each statement will normally be no more than five minutes, but may be further limited depending on the number of written requests to make oral statements that are submitted in accordance with section C below, and/or on the number of persons present the evening of March 11, 2003. Persons who submit timely written requests to make oral statements will be given priority over those who have not filed such requests. If all scheduled and unscheduled speakers present have made their oral statements prior to 9 p.m., the Licensing Board may terminate the session before 9 p.m.

C. Submitting Requests To Make an Oral Limited Appearance Statements

To be considered timely, a written request to make an oral statement must be mailed, faxed, or sent by e-mail so as to be received by close of business (4:30 p.m. EST) on Friday, February 28, 2003. Written requests should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chair of this Licensing Board as follows:

Mail: Administrative Judge Ann Marshall Young, Atomic Safety and Licensing Board Panel, Mail Stop T-3F23, U.S. Nuclear Regulatory Commission, Washington, DC 20555-0001.

Fax: 301/415-5599 (verification 301/415-7550).

E-mail: AMY@nrc.gov.

D. Submitting Written Limited Appearance Statements

A written limited appearance statement may be submitted at any time. Such statements should be sent to the Office of the Secretary using any of the methods prescribed above, with a copy to the Licensing Board Chair by the same method.

E. Availability of Documentary Information Regarding the Proceeding

Documents relating to this proceeding are available for public inspection at the NRC Public Document Room (PDR), located at One White Flint North, 11555 Rockville Pike (first floor), Rockville, Maryland; or electronically through the publicly available records component of the NRC Agencywide Documents Access and Management System (ADAMS). ADAMS is accessible through the NRC Web site at http://www.nrc.gov/reading-rm/adams.html. The PDR and many public libraries have terminals for public access to the Internet. Persons who do not have access to ADAMS or who encounter problems in obtaining access to the documents located in ADAMS may contact the NRC PDR reference staff by telephone at 1-800/397-4209 or 301/415-4737, or by e-mail to pdr@nrc.gov.

Dated in Rockville, Maryland, on January 27, 2003.
For the Atomic Safety and Licensing Board.
Ann Marshall Young,
Chair, Administrative Judge.

[FR Doc. 03-2311 Filed 1-30-03; 8:45 am]

BILLING CODE 7590-01-P